DEPARTMENT OF COMMERCE

National Oceanic and Atmospheric Administration

RIN 0648-XG774

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Wednesday, March 6, 2019 through Thursday, March 7, 2019. For agenda details, see SUPPLEMENTARY INFORMATION.

ADDRESSES: The meeting will be held at the Hilton Virginia Beach Oceanfront, 3001 Atlantic Ave., Virginia Beach, VA 23451; telephone: (757) 213-3000.

Council address: Mid-Atlantic Fishery Management Council, 800 N State St., Suite 201, Dover, DE 19901; telephone: (302) 674-2331.

FOR FURTHER INFORMATION CONTACT: Christopher M. Moore, Ph.D., Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Wednesday, March 6, 2019

Summary of Stock Assessment Workshop/Stock Assessment Review Committee 66

Summer Flounder 2019-21 Specifications

Review SSC, Monitoring Committee, staff, and Advisory Panel recommendations and adopt revised specifications for 2019 and new specifications for 2020-21.

Summer Flounder 2019 Recreational Measures

Review Monitoring Committee, staff, and Advisory Panel recommendations and recommend Conservation Equivalency or coastwide management and associated measures for 2019.

Summer Flounder Commercial Issues and Goals and Objectives Amendment

Final action.

Thursday, March 7, 2019

Interim 2020 Specifications for Black Sea, Bass, Scup, and Bluefish

Adopt interim 2020 specifications.

Black Sea Bass Management Reform

Status of the joint working group and a possible amendment.

Kitty Hawk Wind Project

Chub Mackerel Amendment

Review public hearing comments and AP and Committee recommendations and take final action.

Business Session

Committee Reports (SSC); Executive Director's Report (Review and approve current SSC membership); Organization Reports; and, Liaison Reports

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: February 5, 2019.
Tracey L. Thompson,
Acting Deputy Director, Office of Sustainable Fisheries, National Marine Fisheries Service.

[FR Doc. 2019-01609 Filed 2-7-19; 8:45 am]

BILLING CODE 3510-22-P